SOCIAL SECURITY ADMINISTRATION

[Docket No. SSA-2010-0066]

Proposed Recommendation to the Social Security Administration for Occupational Information System (OIS) Development Planning; Request for Comment

AGENCY: Social Security Administration.

ACTION: Notice; Request for Comment.

SUMMARY: We need information about work that exists throughout the nation to determine whether claimants' impairments prevent them from doing not only their past work, but any other work in the U.S. economy. To that end, we are developing a long term strategy to obtain current and suitable occupational information critical for disability evaluation. In 2008, we established the Occupational Information Development Advisory Panel (Panel) to provide independent advice and recommendations on plans and activities to create an occupational information system tailored specifically for our disability programs and adjudicative needs. The Panel is soliciting comments on a recommendation it intends to make to us.

DATES: To be sure that your comments are considered, we must receive them no later than November 8, 2010.

ADDRESSES: You may submit comments by any one of three methods—Internet, fax or mail. Do not submit the same comments multiple times or by more than one method. Regardless of which method you choose, please state that your comments refer to Docket No. SSA-2010-0066, so that we may associate your comments with the correct activity. Caution: You should be careful to include in your comments only information that you wish to make publicly available. We strongly urge you not to include in your comments any personal information, such as a Social Security number or medical information.

1. Internet: We strongly recommend this method for submitting your comments. Visit the Federal eRulemaking portal at http://www.regulations.gov. Use the Search function of the webpage to find docket number SSA-2010-0066, and then submit your comments. Once you submit your comments, the system will issue you a tracking number to confirm your submission. You will not be able to view your comments immediately as we must manually post each comment. It may take up to a week for your comments to be viewable.

2. Fax: Fax comments to (410) 597-0825.

3. Mail: Address your comments to the Office of Program Development and Research, Occupational Information Development Project, Social Security Administration, 3-E-26 Operations Building, 6401 Security Boulevard, Baltimore, MD 21235-6401. Comments are available for public viewing on the Federal eRulemaking portal at http://www.regulations.gov or in person, during regular business hours, by appointment with the contact person identified below.

The Panel is soliciting comments on its Proposed Recommendation to the Social Security Administration for Occupational Information System Development Planning. The comment period is open through November 8, 2010.

Contact Information: Anyone requiring further information should contact the Panel staff at: Occupational Information Development Advisory Panel, Social Security Administration, 6401 Security Boulevard, 3-E-26 Operations, Baltimore, MD 21235-0001. Fax: 202-410-597-0825. E-mail to OIDAP@ssa.gov. For additional information, please visit the Panel Web site at http://www.ssa.gov/oidap.

Debra Tidwell-Peters,
Designated Federal Officer.

Occupational Information Development Advisory Panel

Proposed Recommendation to the Social Security Administration for Occupational Information System (OIS) Development Planning

In keeping with its charge to provide independent advice and guidance on plans and activities to replace the Dictionary of Occupational Titles (DOT) in disability adjudicative decisions and the development of a new OIS that will help the Social Security Administration (SSA) meet its burden of proof, is forensically defensible, reflects all work nationally and links residual functional capacity to the requirements of work, the Panel strongly recommends that SSA:

1. Take the immediate step to develop an overarching project plan and timeline that specifies SSA's needs and objectives with regard to occupational information;

2. Develop a fully articulated research plan and associated processes that provide for the coordination of necessary scientific research and allows for the incorporation of findings and results, as appropriate;

3. Prepare and make available to the Panel the overall project plan, including the attendant research plans, for advice and recommendation before further developmental activities for the OIS proceed; and,

4. Make public the aforementioned project and research plans, thus delineating how SSA plans to proceed in its efforts to develop said OIS.

The project plan should include scientific and programmatic justification for SSA's efforts going forth, as well as identification of the criteria that will ultimately be utilized to assess the performance of any new OIS system.

To fulfill the requirements of the aforementioned project plan, SSA must also develop and make public a scientifically sound research plan that addresses the needs delineated by the project plan and that will guide the entire OIS developmental process. To meet users' needs, maintain stakeholder confidence, and ensure legal defensibility, it is critical that all intended research protocols be developed with oversight by internal scientists well-versed in research methods along with programmatic specialists and be reviewed by the Panel prior to data collection.

Examples of issues that should be addressed by the recommended research plan include (but are not limited to) how to develop a content model that is legally defensible and possesses strong evidence of validity to determine the appropriate sampling methodologies for pilot testing of all instruments; how to develop a job analysis tool that will be utilized for collecting occupational information (including appropriate scales, methods of data collection, sources of data, etc.), and so on. The Panel recognizes that any plan that is developed will be necessarily dynamic as new information and data may inform future steps. However, this does not negate the need for a published plan that is scrutinized for scientific rigor and adequacy.

In conclusion, the Panel wishes to emphasize that to achieve the goal of a legally defensible OIS, rigorous scientific methods must be utilized. The original recommendations, and associated subcommittee reports, identified numerous empirical studies that should be conducted as part of the process of developing a new OIS. The Agency should examine these recommendations and identify the proposed studies that meet the requirements of good science and SSA's disability program law and regulations for coordination into the project and research plans going forth. In addition, SSA should coordinate existing efforts that meet the requirements of good science and SSA disability program law and regulations, into the project and research plans going forth.

[FR Doc. 2010-26216 Filed 10-18-10; 8:45 am]

BILLING CODE 4191-02-P